DEPARTMENT OF LABOR

Office of the Secretary

Submission for OMB Review; Comment Request

August 19, 2004.

The Department of Labor (DOL) has submitted the following public information collection request (ICR) to the Office of Management and Budget (OMB) for review and approval in accordance with the Paperwork Reduction Act of 1995 (Pub. L. 104-13, 44 U.S.C. Chapter 35). A copy of each ICR, with applicable supporting documentation, may be obtained by contacting the Department of Labor (DOL). To obtain documentation, contact Ira Mills on (202) 693-4122 (this is not a toll-free number) or e-mail: mills.ira@dol.gov.

Comments should be sent to Office of Information and Regulatory Affairs, Attn: OMB Desk Officer for DOL, Office of Management and Budget, Room 10235, Washington, DC 20503, (202) 395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension with minor revision of a currently approved collection.

Title: Quantum Opportunity Program Demonstration Net Impact Evaluation.

OMB Number: 1205-0397.

Frequency: Other; Once in 2004/2005.

Affected Public: Individuals or households.

Number of Respondents: 842.

Number of Annual Responses: 842.

Total Burden Hours: 282.

Estimated Time Per Response: 20 minutes.

Total annualized capital/startup costs: $0.

Total annual costs (operating/maintaining systems or purchasing services): $0.

Description: This revision to the information collection will provide for a third, and final, wave of the survey to be completed approximately 106 months (almost 9 years) after random assignment of the youth in the research sample. It will allow for an analysis of the impact of QOP on participants' outcomes including education and training, employment, earnings, public assistance participation, childbearing, and other behaviors and activities. The finding will be directly relevant for the future development of employment and training policy for youth at risk of dropping out of high school.

Ira L. Mills,
Departmental Clearance Officer.

[FR Doc. 04-19514 Filed 8-25-04; 8:45 am]

BILLING CODE 4510-30-P